DEPARTMENT OF VETERANS AFFAIRS

Privacy Act Of 1974; System of Records

AGENCY: Department of Veterans Affairs (VA).

ACTION: Notice of amendment to systems of records.

SUMMARY: As required by the Privacy Act of 1974, 5 U.S.C. 552a(e), notice is hereby given that the Department of Veterans Affairs (VA) is amending two existing systems of records 121VA19, “National Patient Databases—VA”, and 136VA19E, “Library Network (VALNET)—VA” to: Add a routine use relating to releasing information to agencies in the event of fraud or abuse. VA is also amending the 121VA19 system of records by amending the routine use relating to releasing information to the General Services Administration and the revision of Appendix 4 is being amended for additional databases.

DATES: Comments on the amendment of these systems of records must be received no later than December 27, 2010. If no public comment is received, the amended system will become effective December 27, 2010.

ADDRESSES: Written comments may be submitted through www.Regulation.gov; by mail or hand-delivery to Director, Regulations Management (02REG), Department of Veterans Affairs, 810 Vermont Avenue, NW., Room 1068, Washington, DC 20420; or by fax to (202) 273-9026. Comments received will be available for public inspection in the Office of Regulation Policy and Management, Room 1063B, between the hours of 8 a.m. and 4:30 p.m., Monday through Friday (except holidays). Please call (202) 461-4902 (this is not a toll-free number) for an appointment. In addition, during the comment period, comments may be viewed online through the Federal Docket Management System (FDMS) at http://www.Regulations.gov.

FOR FURTHER INFORMATION CONTACT: Veterans Health Administration (VHA) Privacy Officer, Department of Veterans Affairs, 810 Vermont Avenue, NW., Washington, DC 20420; telephone (704) 245-2492.

SUPPLEMENTARY INFORMATION: VA provides health care services to many of America's Veterans through the Veterans Health Administration. During the course of providing health care, VHA collects medical and health information on Veterans. In order to protect Veteran's medical or health information VHA is adding one routine use and amending one routine use to one existing system of records (121VA19) and one routine use to one other existing system of records (136VA19E).

Additional Routine Uses

The routine use added to 121VA19 and 136VA19E would permit VA to disclose information to other Federal agencies which may be made to assist such agencies in preventing and detecting possible fraud or abuse by individuals in their operations and programs.

The routine use added to these two systems of records would permit disclosures by the Department to report a suspected incident of identity theft and provide information and/or documentation related to or in support of the reported incident.

The routine use being amended to 121VA19 would permit VA to disclose information to the National Archives and Records Administration (NARA) and the General Services Administration (GSA) in records management inspections conducted under authority of Title 44, Chapter 29, of the United States Code (U.S.C.). NARA and GSA are responsible for management of old records no longer actively used, but which may be appropriate for preservation, and for the physical maintenance of the Federal Government's records. VA must be able to provide the records to NARA and GSA in order to determine the proper disposition of such records.

Appendix 4 has been amended to include Defense and Veterans Eye Injury Registry (DVEIR)—VA Service-Related Eye Injury Data Store, Embedded Fragment Registry (EFR), The Electronic Surveillance System for the Early Notification of Community-Based Epidemics (ESSENCE), Veterans Informatics, Information and Computing Infrastructure (VINCI), and Dental Encounter System.

The Report of Intent to Amend these Systems of Records Notice and an advance copy of the systems notice have been sent to the appropriate Congressional committees and to the Director of the Office of Management and Budget (OMB) as required by 5 U.S.C. 552a(r) (Privacy Act) and guidelines issued by OMB (65 FR 77677), December 12, 2000.

Approved: November 3, 2010.
John R. Gingrich,
Chief of Staff, Department of Veterans Affairs.

Notice of Amendment of Systems of Records

1. In the system identified as 121VA19, “National Patient Databases—VA,” as set forth in the Federal Register, 73 FR 16103, and last amended in the Federal Register on March 26, 2008. One new routine use is added as follows:

121VA19

SYSTEM NAME: “National Patient Databases—VA”.

* * * * *

ROUTINE USES OF RECORDS MAINTAINED IN THE SYSTEM, INCLUDING CATEGORIES OF USERS AND THE PURPOSES OF SUCH USES:

* * * * *

4. Disclosure may be made to the National Archives and Records Administration (NARA) and the General Services Administration (GSA) for records management inspections under authority of Title 44, Chapter 29, of the United States Code.

23. Disclosure to other Federal agencies may be made to assist such agencies in preventing and detecting possible fraud or abuse by individuals in their operations and programs.

2. In the system identified as 136VA19E, “Library Network (VALNET)—VA,” as set forth in the Federal Register 73 FR 55214 dated September 24, 2008. One new routine use is added as follows:

136VA19E

SYSTEM NAME: “Library Network (VALNET)—VA”

* * * * *

ROUTINE USES OF RECORDS MAINTAINED IN THE SYSTEM, INCLUDING CATEGORIES OF USERS AND THE PURPOSES OF SUCH USES:

* * * * *

15. Disclosure to other Federal agencies may be made to assist such agencies in preventing and detecting possible fraud or abuse by individuals in their operations and programs.

VA Appendix 4
Database name | Location
Addiction Severity Index | Veterans Affairs Medical Center 7180 Highland Drive Pittsburgh, Pennsylvania 15206.
Bidirectional Health Information Exchange | Austin Information Technology Center 1615 Woodward Street Austin, Texas 78772.
Cardiac Assessment Tracking and Reporting for Cardiac Catheterization Laboratories | Denver VA Medical Center 1055 Clermont Street Denver, Colorado 80220.
Care Management Information System | Veterans Affairs Medical Center University and Woodland Aves. Philadelphia, Pennsylvania 19104.
Clinical Case Registries | Austin Information Technology Center 1615 Woodward Street Austin, Texas 78772.
CMOP Centralized Database System | Southwest CMOP 3675 East Britannia Drive Tucson, Arizona 85706.
Continuous Improvement in Cardiac Surgery | Veterans Affairs Medical Center 820 Clermont Street Denver, Colorado 80220.
Corporate Data Warehouse | Austin Information Technology Center 1615 Woodward Street Austin, Texas 78772.
Cruetzfelet-Jakob Disease Lookback Dataset | Cincinnati VA Medical Center 3200 Vine Street Cincinnati, Ohio 45220.
Decision Support System | Austin Information Technology Center 1615 Woodward Street Austin, Texas 78772.
Defense and Veterans Eye Injury Registry (DVEIR)—VA Service-Related Eye Injury Data Store | Austin Information Technology Center 1615 Woodward Street Austin, Texas 78772.
Dental Encounter System | Austin Information Technology Center 1615 Woodward Street Austin, Texas 78772.
Eastern Pacemaker Surveillance Center Database | Veterans Affairs Medical Center 50 Irving Street, NW Washington, DC 20422.
Embedded Fragment Registry (EFR) | Austin Information Technology Center 1615 Woodward Street Austin, Texas 78772.
Emerging Pathogens Initiative | Austin Information Technology Center 1615 Woodward Street Austin, Texas 78772.
The Electronic Surveillance System for the Early Notification of Community-Based Epidemics (ESSENCE) | Austin Information Technology Center 1615 Woodward Street Austin, Texas 78772.
Federal Health Information Exchange | Austin Information Technology Center 1615 Woodward Street Austin, Texas 78772.
Financial Clinical Data Mart | Austin Information Technology Center 1615 Woodward Street Austin, Texas 78772.
Former Prisoner of War Statistical Tracking System | Austin Information Technology Center 1615 Woodward Street Austin, Texas 78772.
Functional Status and Outcome Database | Austin Information Technology Center 1615 Woodward Street Austin, Texas 78772.
Home Based Primary Care | Austin Information Technology Center 1615 Woodward Street Austin, Texas 78772.
Mammography Quality Standards VA | Veterans Affairs Medical Center 508 Fulton Street Durham, North Carolina 27705.
Master Patient Index | Austin Information Technology Center 1615 Woodward Street Austin, Texas 78772.
Medical SAS File (MDP) (Medical District Planning (MEDIPRO)) | Austin Information Technology Center 1615 Woodward Street Austin, Texas 78772.
Missing Patient Register | Austin Information Technology Center 1615 Woodward Street Austin, Texas 78772.
National Mental Health Database System | Veterans Affairs Medical Center 7180 Highland Drive Pittsburgh, Pennsylvania 15206.
National Medical Information System | Austin Information Technology Center 1615 Woodward Street Austin, Texas 78772.
National Survey of Veterans | Austin Information Technology Center 1615 Woodward Street Austin, Texas 78772.
Office of Quality and Performance (OQP) | (OQP) Data Center 601 Keystone Park Dr Suite 800 Morrisville, North Carolina 27560.
Parkinson's Disease Research, Education and Clinical Centers Registry | Veterans Affairs Medical Center 4150 Clement Street San Francisco, California 94121.
Patient Assessment File | Austin Information Technology Center 1615 Woodward Street Austin, Texas 78772.
Pharmacy Benefits Management | Veterans Affairs Medical Center 5th Avenue and Roosevelt Road Hines, Illinois 60141.
Radiation Exposure Inquiries Database | Office of Information Field Office 1335 East West Highway Silver Spring, Maryland 20910.
Remote Order Entry System | Denver Distribution Center 155 Van Gordon Street Lakewood, Colorado 80228-1709.
Resident Assessment Instrument/Minimum Data Set | Austin Information Technology Center 1615 Woodward Street Austin, Texas 78772.
Short Form Health Survey for Veterans | Veterans Affairs Medical Center 200 Springs Road Bedford, Massachusetts 01730.
VA National Clozapine Registry | Veterans Affairs Medical Center 4500 S. Lancaster Road Dallas, Texas 75216.
VA Vital Status File | Austin Information Technology Center 1615 Woodward Street Austin, Texas 78772.
Veterans Administration Central Cancer Registry | Veterans Affairs Medical Center 50 Irving Street, NW Washington, DC 20422.
Veterans Informatics, Information and Computing Infrastructure (VINCI) | Austin Information Technology Center 1615 Woodward Street Austin, Texas 78772.
Veterans Integrated Service Network Support Service Center Databases | Austin Information Technology Center 1615 Woodward Street Austin, Texas 78772.

[FR Doc. 2010-29695 Filed 11-24-10; 8:45 am]

BILLING CODE 8320-01-P